DEPARTMENT OF COMMERCE

International Trade Administration

[A-533-857, A-580-870, A-489-816, A-823-815, A-552-817, C-533-858, C-489-817]

Oil Country Tubular Goods From India, the Republic of Korea, the Republic of Turkey, Ukraine, and the Socialist Republic of Vietnam: Continuation of Antidumping and Countervailing Duty Orders

AGENCY: Enforcement and Compliance, International Trade Administration, Department of Commerce.

SUMMARY: As a result of the determinations by the Department of Commerce (Commerce) and the International Trade Commission (ITC) that the revocation of the antidumping duty (AD) orders on certain oil country tubular goods (OCTG) from India, the Republic of Korea (Korea), the Republic of Turkey (Turkey), Ukraine, and the Socialist Republic of Vietnam (Vietnam) and countervailing duty (CVD) orders on OCTG from India and Turkey would likely lead to the continuation or recurrence of dumping or countervailable subsidies, and of material injury to an industry in the United States. Commerce is publishing a notice of continuation of these AD and CVD orders.

DATES: Applicable August 12, 2020.

FOR FURTHER INFORMATION CONTACT: Chelsey Simonovich, AD/CVD Operations, Enforcement and Compliance, International Trade Administration, U.S. Department of Commerce, 1401 Constitution Avenue NW, Washington, DC 20230; telephone: (202) 482-1979.

SUPPLEMENTARY INFORMATION:

Background

In 2014, Commerce published the AD orders on OCTG from India, Korea, Turkey, and Vietnam and the CVD orders on OCTG from India and Turkey; in 2019, Commerce published the AD order on OCTG from Ukraine.¹ On February 5, 2019, the ITC instituted,² and on June 4, 2019 Commerce initiated,³ the five-year (sunset) reviews of the AD and CVD orders on OCTG from India, Korea, Turkey, Ukraine, and Vietnam, pursuant to section 751(c) of the Tariff Act of 1930, as amended (the Act). As a result of its reviews, Commerce determined that revocation of the Orders would be likely to lead to the continuation or recurrence of dumping or the continuation or recurrence of countervailable subsidies, and, therefore, notified the ITC of the magnitude of the margins of dumping and the net subsidy rates likely to prevail should the Orders be revoked.⁴ On August 3, 2020, the ITC published its determinations, pursuant to sections 751(c) and 752(a) of the Act, that revocation of the Orders would likely lead to continuation or recurrence of material injury to an industry in the United States within a reasonably foreseeable time.⁵

¹ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014); see also Certain Oil Country Tubular Goods from India, the Republic of Korea, Taiwan, the Republic of Turkey, and the Socialist Republic of Vietnam: Notice of Correction to the Antidumping Duty Orders with Respect to Turkey and the Socialist Republic of Vietnam, 79 FR 59740 (October 3, 2014); Certain Oil Country Tubular Goods from India and the Republic of Turkey: Countervailing Duty Orders and Amended Final Countervailing Duty Determination for India, 79 FR 53688 (September 10, 2014); and Termination of the Suspension Agreement on Certain Oil Country Tubular Goods from Ukraine, Rescission of Administrative Review, and Issuance of Antidumping Duty Order, 84 FR 33918 (July 16, 2019) (collectively, Orders).

² See Oil Country Tubular Goods from India, Korea, Turkey, Ukraine, and Vietnam; Institution of Five-Year Reviews, 84 FR 25570 (June 3, 2019).

³ See Initiation of Five-Year (Sunset) Reviews, 84 FR 1705 (February 5, 2019).

⁴ See Oil Country Tubular Goods from India: Final Results of the Expedited Sunset Review of the Countervailing Duty Order, 84 FR 50001 (September 24, 2019), and accompanying Issues and Decision Memorandum (IDM); see also Oil Country Tubular Goods from the Republic of Turkey: Final Results of the Expedited First Sunset Review of the Countervailing Duty Order, 84 FR 55139 (October 15, 2019), and accompanying IDM; Certain Oil Country Tubular Goods from India, the Republic of Korea, Turkey, and the Socialist Republic of Vietnam: Final Results of Expedited First Sunset Reviews of the Antidumping Duty Orders, 85 FR 12774 (March 4, 2020), and accompanying IDM; and Oil Country Tubular Goods from Ukraine: Final Results of the First Five-Year Sunset Review of the Antidumping Duty Order, 85 FR 27206 (May 7, 2020), and accompanying IDM.

⁵ See Oil Country Tubular Goods from India, Korea, Turkey, Ukraine, and Vietnam (Inv. Nos. 701-TA-499-500 and 731-TA-1215-1216 and 1221-1223 (Review)), 85 FR 46729 (August 3, 2020); see also Oil Country Tubular Goods from India, Korea, Turkey, Ukraine, and Vietnam (Inv. Nos. 701-TA-499-500 and 731-TA-1215-1216 and 1221-1223 (Review)), USITC Pub. 5090 (July 2020).

Scope of the Orders

For purposes of these Orders and a complete description of the products covered by each order, please see the Final Results and accompanying Issues and Decision Memoranda.⁶

⁶ See Oil Country Tubular Goods from India: Final Results of the Expedited Sunset Review of the Countervailing Duty Order, 84 FR 50001 (September 24, 2019), and accompanying IDM; see also Oil Country Tubular Goods from the Republic of Turkey: Final Results of the Expedited First Sunset Review of the Countervailing Duty Order, 84 FR 55139 (October 15, 2019), and accompanying IDM; Certain Oil Country Tubular Goods from India, the Republic of Korea, Turkey, and the Socialist Republic of Vietnam: Final Results of Expedited First Sunset Reviews of the Antidumping Duty Orders, 85 FR 12774 (March 4, 2020), and accompanying IDM; and Oil Country Tubular Goods from Ukraine: Final Results of the First Five-Year Sunset Review of the Antidumping Duty Order, 85 FR 27206 (May 7, 2020), and accompanying IDM.

Continuation of the Orders

As a result of the determinations by Commerce and the ITC that revocation the Orders would likely lead to the continuation or recurrence of dumping or countervailable subsidies and the continuation or recurrence of material injury to an industry in the United States, pursuant to section 751(d)(2) of the Act and 19 CFR 351.218(a), Commerce hereby orders the continuation of the Orders. U.S. Customs and Border Protection will continue to collect AD and CVD cash deposits at the rates in effect at the time of entry for all imports of subject merchandise.

The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply is a violation of the APO which may be subject to sanctions.

Notification to Interested Parties

These five-year (sunset) reviews and this notice are in accordance with sections 751(c) and 751(d)(2) of the Act and published in accordance with section 777(i) of the Act, and 19 CFR 351.218(f)(4).

Dated: August 6, 2020.
Jeffrey I. Kessler,
Assistant Secretary for Enforcement and Compliance.

[FR Doc. 2020-17632 Filed 8-11-20; 8:45 am]

BILLING CODE 3510-DS-P